DEPARTMENT OF TRANSPORTATION

Office of the Secretary

Transportation Labor-Management Board; Meeting

AGENCY: Department of Transportation, Office of the Secretary.

ACTION: Notice of meeting.

SUMMARY: The U.S. Department of Transportation (DOT) announces a meeting of the Transportation Labor-Management Board (Board). Notice of this meeting is required under the Federal Advisory Committee Act.

Time and Place: The Board will meet on Tuesday, February 25, 2003, at 9 a.m., at the U.S. Department of Transportation, Nassif Building, room 3246A, 400 Seventh Street, SW., Washington, DC 20590. The room is located on the 3rd floor.

Type of Meeting: The meeting is open to the public. Please note that visitors without a government identification badge should enter the Nassif Building at the Southwest lobby, for clearance at the Visitor's Desk. Seating will be available on a first-come, first-served basis. Handicapped individuals wishing to attend should contact DOT to obtain appropriate accommodations.

Point of Contact: Stephen Gomez, U.S. Department of Transportation, Office of the Secretary, Workforce Environment and Pay Division, M-13, U.S. Department of Transportation, Nassif Building, 400 Seventh Street, SW., room 7411, Washington, DC 20590, (202) 366-9455.

SUPPLEMENTARY INFORMATION: The purpose of this meeting is to determine the issues the Board will address, establish priorities, and review the revised Transportation Labor-Management Board Charter.

Public Participation: We invite interested persons and organizations to submit comments. Mail or deliver your comments or recommendations to Stephen Gomez at the address shown above. Comments should be received by February 18, 2003 in order to be considered at the February 25th meeting.

Issued in Washington, DC, on February 6, 2003.
For the U.S. Department of Transportation.
Linda S. Moody,
Associate Director, Workforce Environment and Pay Division.

[FR Doc. 03-3607 Filed 2-13-03; 8:45 am]

BILLING CODE 4910-62-P